ENVIRONMENTAL PROTECTION AGENCY

40 CFR Part 81

[EPA-HQ-OAR-2009-0443; FRL-9492-3]

RIN 2060-AR17

Air Quality Designations for the 2008 Lead (Pb) National Ambient Air Quality Standards

Correction

In rule document 2011-29460 appearing on pages 72097-72120 in the issues of Tuesday, November 22, 2011, make the following corrections:

§ 81.337 [Corrected]

1. On page 72115, in the first table on the page, the column heading “Designation for the 2008 NAAQS” should read “Designation for the 2008 NAAQSᵃ”.

§ 81.338 [Corrected]

2. On page 72115, in the second table on the page, the column heading “Designation for the 2008 NAAQS” should read “Designation for the 2008 NAAQSᵃ”.

§ 81.339 [Corrected]

3. On page 72115, in the third table on the page, the column heading “Designation for the 2008 NAAQS” should read “Designation for the 2008 NAAQSᵃ”.

§ 81.340 [Corrected]

4. On page 72115, in the last table on the page, the column heading “Designation for the 2008 NAAQS” should read “Designation for the 2008 NAAQSᵃ”.

§ 81.341 [Corrected]

5. On page 72116, in the first table on the page, the column heading “Designation for the 2008 NAAQS” should read “Designation for the 2008 NAAQSᵃ”.

§ 81.342 [Corrected]

6. On page 72116, in the second table on the page, the column heading “Designation for the 2008 NAAQS” should read “Designation for the 2008 NAAQSᵃ”.

[FR Doc. C1-2011-29460 Filed 12-5-11; 8:45 am]

BILLING CODE 1505-01-D